DEPARTMENT OF COMMERCE

National Oceanic and Atmospheric Administration

Waquoit Bay National Estuarine Research Reserve: Notice of Approval and Availability on Revised Management Plan

AGENCY: Office of Ocean and Coastal Resource Management, National Ocean Service, National Oceanic and Atmospheric Administration, U.S. Department of Commerce.

ACTION: Notice of Approval and Availability of the Final Revised Management Plan for the Waquiot Bay National Eustraine Research Reserve.

SUMMARY: Notice is hereby given that the Estuarine Reserves Division (ERD), Office of Ocean and Coastal Resource Management, has approved the revised management plan for the Waquoit Bay National Estuarine Research Reserve (WBNERR). The WBNERR was designated in 1989 and has been operating under a management plan approved in 1989. Pursuant to section 921.33(c) of the National Estuarine Research System implementing regulations, a state must revise its management plan at least every five years, or more often if necessary.

The revisions to the WBNERR management plan include:

• The renovation of the headquarters site and its structures to provide a support base for the administrative, research and education activities of the Reserve;

• The significant increase in staff and the concomitant increase in activities undertaken under the auspices of the Reserve;

• The proposed acquisition boundary which describes the Reserve's plans to expand its boundary. It also describes lands that may be acquired for incorporation into the Reserve boundary. The approval of this management plan officially incorporates the Quashent River parcel and the Great Flat Pond into the Reserve boundary. The proposed acquisition boundary describes the Reserve's plans to pursue for acquisition approximately 1,250 acres of unprotected areas in the Waquoit Bay watershed that coincides with the Mashpee National Wildlife Refuge's acquisition boundary.

• The incorporation of the Massachusetts Department of Environmental Management's Guidelines for Operations and Land Stewardship (GOALS);

• The exhibits at the visitor center, which significantly increases visitation to the Reserve; and

• Modifications to the Reserve's advisory committee structure that reflect the maturation of the Reserve and its needs at this stage of operations.

The revised management plan demonstrates continued strong support from the Massachusetts Department of Environmental Management (DEM) and NOAA for research, monitoring and education programs. A long-term research plan focuses on understanding the structure and function of key habitats, such as the Reserve's five major marsh systems. A comparative ecology approach provides the basis for research project design and priority setting. Collaborative studies with Federal, state, and institutional researchers are encouraged. An associated long-term monitoring program will characterize the environmental quality and the occurrence and abundance of living resources. Monitoring is designed to determine baseline status and trends in habitat quality and the health of important resource species.

FOR FURTHER INFORMATION CONTACT: Doris Grimm, OCRM, Esturarine Reserves Division, 1305 East-West Highway, 11th Floor (N/ORM5), Silver Spring, Maryland 20910, (301) 713-3155, Extension 107.

Federal Domestic Assistance Catalog Number 11.420 (Coastal Zone management) Research Reserves.
Dated: September 17, 2001.
Jamison S. Hawkins,
Deputy Assistant Administrator for Ocean Services and Coastal Zone Management, National Oceanic and Atmospheric Administration.

[FR Doc. 01-23675 Filed 9-20-01; 8:45 am]

BILLING CODE 3510-08-M